DEPARTMENT OF THE TREASURY

Submission for OMB Review; Comment Request

August 26, 2014.

The Department of the Treasury will submit the following information collection requests to the Office of Management and Budget (OMB) for review and clearance in accordance with the Paperwork Reduction Act of 1995, Public Law 104-13, on or after the date of publication of this notice.

DATES: Comments should be received on or before September 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission may be obtained by emailing PRA@treasury.gov, calling (202) 622-1295, or viewing the entire information collection request at www.reginfo.gov.

United States Mint

OMB Number: 1525-0012.

Type of Review: Extension of a currently approved collection.

Title: Generic Clearance for Voluntary Surveys to Implement E.O. 12862.

Abstract: This is a request for a three-year generic clearance for the United States Mint to conduct customer satisfaction and opinion surveys or focus group interviews. The data collection will allow the Mint to comply with Executive Order 12862 and assess the acceptance of and potential demand for current and future Mint products, and the needs and desires of customers for more efficient, economical services.

Affected Public: Individuals or households; Businesses or other for-profits.

Estimated Total Burden Hours: 37,809.

Brenda Simms,
Treasury PRA Clearance Officer.

[FR Doc. 2014-20575 Filed 8-28-14; 8:45 am]

BILLING CODE 4810-37-P